SECURITIES AND EXCHANGE COMMISSION

[SEC File No. 270-563, OMB Control No. 3235-0694]

Proposed Collection; Comment Request; Extension: Rule 17g-10 and Form ABS Due Diligence-15E

Upon Written Request, Copies Available From: Securities and Exchange Commission, Office of FOIA Services, 100 F Street NE, Washington, DC 20549-2736

Notice is hereby given that pursuant to the Paperwork Reduction Act of 1995 (44 U.S.C. 3501 et seq.), the Securities and Exchange Commission (“Commission”) is soliciting comments on the existing collection of information provided for in Rule 17g-10 and Form ABS Due Diligence-15E (17 CFR 240.17g-10 and 17 CFR 249b.500) under the Securities Exchange Act of 1934 (“Exchange Act”) (15 U.S.C. 78a et seq.). The Commission plans to submit this existing collection of information to the Office of Management and Budget for extension and approval.

Rule 17g-10 requires a provider of third-party due diligence services to provide the written certification required by Section 15E(s)(4) of the Exchange Act on Form ABS Due Diligence-15E. Based on Commission staff's experience, it is estimated that third-party due diligence service providers would be required to spend, on average, 0.20 hours to complete and transmit Form ABS Due Diligence-15E, for a total annual burden of 470 hours.¹ The cost for a compliance manager to complete and submit Form ABS Due Diligence-15E pursuant to Rule 17g-10 is estimated at $372 per hour,² resulting in an industry-wide annual internal cost to third-party service providers of $175,000 per year.

¹ This figure is calculated by multiplying the per year average number of offerings of asset-backed securities, as the term is defined in Section 3(a)(79) of the Exchange Act, which was estimated at 1,410 offerings, by the hour burden to complete and transmit Form ABS Due Diligence-15E, estimated at 0.20 hours (1,410 offerings × 0.20 hours = 470 hours).

² The $372 figure for a compliance manager is based on SIFMA's Management & Professional Earnings in the Securities Industry 2013, modified by Commission staff to account for an 1,800-hour work-year and multiplied by 5.35 to account for bonuses, firm size, employee benefits and overhead, as adjusted for inflation using the Bureau of Labor Statistics' CPI Inflation Calculator.

Written comments are invited on: (a) whether the proposed collection of information is necessary for the proper performance of the functions of the Commission, including whether the information shall have practical utility; (b) the accuracy of the Commission's estimates of the burden of the proposed collection of information; (c) ways to enhance the quality, utility, and clarity of the information on respondents; and (d) ways to minimize the burden of the collection of information on respondents, including through the use of automated collection techniques or other forms of information technology. Consideration will be given to comments and suggestions submitted by May 14, 2024.

An agency may not conduct or sponsor, and a person is not required to respond to, a collection of information unless it displays a currently valid OMB control number. Please direct your written comments to: Dave Bottom, Director/Chief Information Officer, Securities and Exchange Commission, c/o John Pezzullo, 100 F St. NE, Washington, DC 20549 or send an email to: PRA_Mailbox@sec.gov.

Dated: March 12, 2024.
Sherry R. Haywood,
Assistant Secretary.

[FR Doc. 2024-05542 Filed 3-14-24; 8:45 am]

BILLING CODE 8011-01-P